DEPARTMENT OF HOMELAND SECURITY

Coast Guard

33 CFR Part 117

[Docket No. USCG-2018-0836]

Drawbridge Operation Regulation; Newark Bay, Newark, NJ

AGENCY: Coast Guard, DHS.

ACTION: Notice of deviation from drawbridge regulation.

SUMMARY: The Coast Guard has issued a temporary deviation from the operating schedule that governs the Lehigh Valley Bridge across the Newark Bay, mile 4.3, at Newark, New Jersey. The deviation is necessary to replace bridge timber on the lift span. This deviation allows the bridge to remain in the closed-to navigation position during the construction periods.

DATES: This deviation is effective from 6 a.m. on October 14, 2018, to 6 p.m. on November 12, 2018.

ADDRESSES: The docket for this deviation, USCG-2018-0836 is available at http://www.regulations.gov. Type the docket number in the “SEARCH” box and click “SEARCH.” Click on Open Docket Folder on the line associated with this deviation.

FOR FURTHER INFORMATION CONTACT: If you have questions on this temporary deviation, call or email Judy Leung-Yee, Bridge Management Specialist, First District Bridge Branch, U.S. Coast Guard, telephone 212-514-4336, email Judy.K.Leung-Yee@uscg.mil.

SUPPLEMENTARY INFORMATION: The owner of the bridge, Consolidated Rail Corporation, requested a temporary deviation from the normal operating schedule to replace bridge timber on the lift span. The Lehigh Valley Bridge across the Newark Bay, mile 4.3, at Newark, New Jersey is a lift bridge with a vertical clearance in the closed position of 35 feet at mean high water and 39 feet at mean low water. The existing bridge operating regulations are listed at §§ 117.5 and 117.735.

Under this temporary deviation, the Lehigh Valley Bridge shall remain in the closed position from 6 a.m. on October 14, 2018 to 6 p.m. on October 15, 2018; from 6 a.m. on October 21 to 6 p.m. on October 22, 2018; and from 6 a.m. on October 28, 2018 to 6 p.m. on October 29, 2018. Should inclement weather occur, the following rain dates may be used: (a) From 6 a.m. on November 4, 2018 to 6 p.m. on November 5, 2018; or (b) from 6 a.m. on November 11, 2018 to 6 p.m. on November 12, 2018.

The waterway is transited by recreational and commercial vessels. Coordination with known waterway users has indicated no objection to the closure. Vessels able to pass through the bridge in the closed position may do so at anytime. The bridge will not be able to open for emergencies and there is no immediate alternate route for vessels to pass.

The Coast Guard will inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: September 21, 2018.
C.J. Bisignano,
Supervisory Bridge Management Specialist, First Coast Guard District.

[FR Doc. 2018-21049 Filed 9-26-18; 8:45 am]

BILLING CODE 9110-04-P